SECURITIES AND EXCHANGE COMMISSION

17 CFR Part 240

[Release No. 34-61414A; File No. S7-04-10]

RIN 3235-AK54

Purchases of Certain Equity Securities by the Issuer and Others; Correction

AGENCY: Securities and Exchange Commission.

ACTION: Proposed rule; correction.

SUMMARY: On January 29, 2010, at 75 FR 4713, the Securities and Exchange Commission published in the Federal Register a proposed rule, titled, “Purchases of Certain Equity Securities by the Issuer and Others.” The proposed rule was published with an incorrect Regulation Identifier Number (RIN). This document corrects that error.

FOR FURTHER INFORMATION CONTACT: Joan Collopy, (202) 551-5720.

Correction

In proposed rule FR Doc. 2010-1856, beginning on page 4713 in the issue of January 29, 2010, the RIN is corrected as set forth above.

Dated: Dated: February 4, 2010.
Elizabeth E. Murphy,
Secretary.

[FR Doc. 2010-2856 Filed 2-9-10; 8:45 am]

BILLING CODE P